DEPARTMENT OF ENERGY

Federal Energy Regulatory Commission

[Docket No. EL23-27-000]

Nevada Power Company; Notice Granting Motion To Hold Proceeding in Abeyance

On March 16, 2023, Nevada Power Company and Sierra Pacific Power Company (collectively, Nevada Power) filed a joint motion to hold the show cause proceeding in the above-captioned docket ¹ in abeyance while the Commission considers a concurrently filed Federal Power Act (FPA) section 205 filing made by Nevada Power in Docket No. ER23-1406-000.

¹ Nev. Power Co., 182 FERC ¶ 61,051 (2023) (Show Cause Order) (finding that Nevada Power's Large Generator Interconnection Procedures appear to be unjust, unreasonable, unduly discriminatory or preferential, or otherwise unlawful and instituting a show cause proceeding pursuant to FPA section 206).

Nevada Power states that, in the FPA section 205 filing, it proposes revisions to its tariff to specify the method for allocating network upgrade costs among interconnection customers in a cluster. Nevada Power represents that good cause exists to hold the show cause proceeding in Docket No. EL23-27-000 in abeyance because if the Commission accepts the proposed revisions to Nevada Power's tariff in Docket No. ER23-1406-000, then the basis for the Show Cause Order would be addressed.

Upon consideration, notice is hereby given that Nevada Power's motion is granted and the show cause proceeding in Docket No. EL23-27-000 will be held in abeyance pending the Commission's consideration of the filing in Docket No. ER23-1406-000.

Dated: March 27, 2023.
Debbie-Anne A. Reese,
Deputy Secretary.

[FR Doc. 2023-06695 Filed 3-30-23; 8:45 am]

BILLING CODE 6717-01-P